DEPARTMENT OF AGRICULTURE

Agricultural Marketing Service

[Docket Number FV-05-311]

United States Standards for Grades of Muscadine (Vitis rotundifolia) Grapes

AGENCY: Agricultural Marketing Service, USDA.

ACTION: Notice; request for public comment.

SUMMARY: The Agricultural Marketing Service (AMS) is soliciting comments on its proposal to create a voluntary United States Standards for Grades of Muscadine (Vitis rotundifolia) Grapes. AMS has received a request from an industry group representing muscadine grape growers to develop a standard for Muscadine Grapes. This proposal will provide a common language for trade and a means of measuring value in the marketing of muscadine grapes, thus promoting orderly and efficient marketing of muscadine grapes.

DATES: Comments must be received by October 7, 2005.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; Fax (202) 720-8871, e-mail FPB.DocketClerk@usda.gov. Comments should make reference to the dates and page number of this issue of the Federal Register and will be made available for public inspection in the above office during regular business hours.

The proposed U.S. Standards for Grades of Muscadine (Vitis rotundifolia) Grapes are available either from the above address or the Agricultural Marketing Service (AMS), Fresh Products Branch Web site at: http://www.ams.usda.gov/fv/fpbdocketlist.htm.

FOR FURTHER INFORMATION CONTACT: David L. Priester, at the above address or call (202) 720-2185; e-mail David.Priester@usda.gov.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements no longer appear in the Code of Federal Regulations, but are maintained by USDA/AMS/Fruit and Vegetable Programs.

AMS is proposing to establish voluntary United States Standards for Grades of Muscadine (Vitis rotundifolia) Grapes using procedures that appear in part 36, title 7 of the Code of Federal Regulations (7 CFR part 36).

Background

The petitioner, an industry group representing growers, requested that AMS develop a grade standard for muscadine grapes. AMS attended various industry meetings, visited several grower facilities, and worked with University Extension Specialists to collect information regarding muscadine grapes for the development of grade standards. In January 2004, a discussion draft for the proposed standard was sent out to the muscadine grape industry for input. Based on information gathered and comments rendered by the industry, AMS has developed a proposed U.S. Standards for Grades of Muscadine (Vitis rotundifolia) Grapes. The proposal would establish the following grades as well as a tolerance for each grade: U.S. Extra No. 1 and U.S. No. 1. In addition, proposed “Application of Tolerances” and “Size Classifications” sections would be established. This proposal also defines “Damage,” “Serious Damage,” specific basic requirements and other defects. AMS is soliciting comments on the proposed standard to better serve the industry and the probable impact on growers, processors, and distributors.

This proposal will provide a common language for trade and a means of measuring value in the marketing of muscadine grapes. The official grade of a lot of muscadine grapes covered by these standards will be determined by the procedures set forth in the Regulations Governing Inspection, Certification, and Standards of Fresh Fruits, Vegetables, and Other Products (Sec. 51.1 to 51.61).

This notice provides for a 60-day comment period for interested parties to comment on the proposed U.S. Standards for Grades of Muscadine (Vitis rotundifolia) Grapes.

Authority: 7 U.S.C. 1621-1627.

Dated: August 2, 2005.
Kenneth C. Clayton,
Acting Administrator, Agricultural Marketing Service.

[FR Doc. 05-15555 Filed 8-5-05; 8:45 am]

BILLING CODE 3410-02-P